DEPARTMENT OF JUSTICE

Notice of Lodging of Consent Decree Under the Comprehensive Environmental Response, Compensation, and Liability Act (“CERCLA”)

Notice is hereby given that on December 22, 2010 a proposed consent decree (“proposed Decree”) in United States v. Alcoa, Inc., et al., C.A. No. 3:10-cv-532, was lodged with the United States District Court for the Northern District of Indiana.

In this action under Sections 106(a) and 107(a) of the Comprehensive Environmental Response, Compensation, and Liability Act, 42 U.S.C. 9606(a) & 9607(a) (“CERCLA”), the United States and the State of Indiana seek to enjoin the Defendants to perform a remedial action to address an imminent and substantial endangerment to the public health, public welfare and the environment caused by actual or threatened releases of hazardous substances from the Cam-Or National Priorities List Site (“the Cam-Or Site”) located in Westville, LaPorte County, Indiana, and to recover response costs that the United States and Indiana have incurred and will incur in the future at the Cam-Or Site. The proposed Decree requires the Settling Work Parties (Alcoa, Inc., ANR Pipeline Company, C. Stoddard & Sons, Inc., Clean Harbors Environmental Services, Inc., Consolidated Rail Corporation, CSX Transportation, Inc., Ford Motor Company, Imperial Oil Limited, Ingersoll-Rand Company, Northern Indiana Public Service Company, Rockwell Automation, Tennessee Gas Pipeline Company, and United States Steel Corporation) to construct and operate a soil containment system, to design, install, operate and maintain a groundwater pump and treat system, to design, install, operate, and maintain a light non-aqueous phase liquid remediation system, to install and operate a monitoring system for the remedial action, and to develop and implement a plan for institutional controls at the Site.

Additionally, under the Consent Decree the Settling Work Parties have agreed to pre-pay $2.2 million into a Site special account to be used for future oversight costs of the United States Environmental Protection Agency (“U.S. EPA”), and if and when such fund, plus interest, is depleted, to pay 50% of any additional U.S. EPA oversight costs. Further, under the Decree the Settling Work Parties have agreed to pay all of U.S. EPA's other future response costs; to pay all of the Indiana Department of Environmental Management's future oversight costs and other future response costs; and to pay $200,000 toward approximately $3.4 million in pre-entry unreimbursed response costs incurred by the United States. The Decree would provide covenants not to sue to the Settling Work Parties and, if they choose to sign the Consent Decree, to numerous other potentially responsible parties who have previously settled with one or more of the Settling Work Parties (listed in Appendix E to the Decree) and who received indemnification from such parties.

The Department of Justice will receive for a period of thirty (30) days from the date of this publication comments relating to the proposed Decree. Comments should be addressed to the Assistant Attorney General, Environment and Natural Resources Division, and either emailed to pubcomment-ees.enrd@usdoj.gov or mailed to P.O. Box 7611, U.S. Department of Justice, Washington, DC 20044-7611, and should refer to United States v. Alcoa, Inc., et al., D.J. Ref. 90-11-3-609/1.

The proposed Decree may be examined at the Office of the United States Attorney for the Northern District of Indiana, South Bend Division, 204 South Main Street, South Bend, Indiana 46601-2122, or the United States Environmental Protection Agency (Region 5) Records Center, Room 714, 77 West Jackson Boulevard, Chicago, Illinois 60604. During the public comment period, the proposed Decree may also be examined on the following Department of Justice Web site: http://www.usdoj.gov/enrd/Consent Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $41.50 (25 cents per page reproduction cost) payable to the U.S. Treasury or, if by e-mail or fax, forward a check in that amount to the Consent Decree Library at the stated address.

Maureen Katz,
Assistant Chief, Environmental Enforcement Section, Environment and Natural Resources Division.

[FR Doc. 2010-33327 Filed 1-4-11; 8:45 am]

BILLING CODE 4410-15-P